DEPARTMENT OF ENERGY

Federal Energy Regulatory Commission

[Docket No. RP02-151-005]

Gulf South Pipeline Company, LP; Notice of Compliance Filing October 30, 2002.

Take notice that on October 25, 2002, Gulf South Pipeline Company, LP (Gulf South) tendered for filing as part of its FERC Gas Tariff, Sixth Revised Volume No. 1, the following tariff sheet, to become effective November 1, 2002. Second Substitute Original Sheet No. 307

Gulf South states that the above tariff sheet has been filed to comply with the Order issued October 10, 2002, 101 FERC ¶ 61,019. The Commission directed Gulf South to permit an NNS customer subject to retail unbundling/open access to be entitled to give notice as of the date of the final order in such proceeding. The compliance filing incorporates this change.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For assistance, please contact FERC Online Support at FERCOnlineSupport @ferc.gov or toll-free at (866) 208-3676, or for TTY, contact (202) 502-8659. The Commission strongly encourages electronic filings. See, 18 CFR 385.2001(a)(1)(iii) and the instructions on the Commission's Web site under the “e-Filing” link.

Linwood A. Watson, Jr.,
Deputy Secretary.

[FR Doc. 02-28176 Filed 11-4-02; 8:45 am]

BILLING CODE 6717-01-P